ENVIRONMENTAL PROTECTION AGENCY

[EPA-HQ-OPP-2010-0751; FRL-9918-46]

Methomyl; Notice of Receipt of Requests To Voluntarily Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily to amend their methomyl product registrations to delete one or more uses. The requests would delete methomyl use in or on barley, oats, and rye. The requests would not terminate the last methomyl products registered for use in the United States. EPA intends to grant these requests at the close of the comment period for this announcement unless the Agency receives substantive comments within the comment period that would merit its further review of the requests, or unless the registrants withdraw its requests. If these requests are granted, any sale, distribution, or use of products listed in this notice will be permitted after the use is deleted only if such sale, distribution, or use is consistent with the terms as described in the final order.

DATES: Comments must be received on or before December 5, 2014.

ADDRESSES: Submit your comments, identified by docket identification (ID) number EPA-HQ-OPP-2010-0751, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Tom Myers, Pesticide Re-Evaluation Division (7508P), Office of Pesticide Programs, Environmental Protection Agency, 1200 Pennsylvania Ave. NW., Washington, DC 20460-0001; telephone number: (703) 308-8589; email address: myers.tom@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests To Amend Registrations to Delete Uses

This notice announces receipt by EPA of requests from registrants to delete certain uses of methomyl product registrations. Methomyl is a broad-spectrum carbamate insecticide registered for use on a wide range of field crops, vegetables, fruits, and turf. In letters to EPA, the registrants have requested EPA to amend their methomyl product labels to delete certain uses of their pesticide product registrations identified in Table 1 of Unit III. Specifically, the registrants have submitted letters to EPA to voluntarily amend their methomyl product registrations to delete the use of methomyl in or on barley, oats, and rye. This action on the registrant's requests will terminate the last methomyl pesticide products registered in the United States for these uses.

III. What action is the Agency taking?

This notice announces receipt by EPA of requests from registrants to delete certain uses of methomyl product registrations. The affected products and the registrants making the requests are identified in Tables 1 and 2 of this unit.

Unless a request is withdrawn by the registrant or if the Agency determines that there are substantive comments that warrant further review of this request, EPA intends to issue an order amending the affected registrations.

Table 1—Methomyl Product Registrations With Pending Requests for Amendment
Registration No. | Product name | Company | Uses to be deleted
352-342 | Dupont Lannate SP Insecticide | Dupont | Barley, Oats, Rye.
352-361 | Dupont Methomyl Composition | Dupont | Barley, Oats, Rye.
352-366 | Dupont Methomyl Technical | Dupont | Barley, Oats, Rye.
352-384 | Dupont Lannate LV Insecticide | Dupont | Barley, Oats, Rye.
400-597 | Annihilate LV | MacDermid Agricultural Solutions | Barley, Oats, Rye.
400-598 | Annihilate SP | MacDermid Agricultural Solutions | Barley, Oats, Rye.
70552-2 | Methomyl Technical | Sinon Corporation | Barley, Oats, Rye.
81598-9 | Rotam Methomyl Technical | Rotam Limited | Barley, Oats, Rye.
82557-2 | Methomyl 29% SL Insecticide | Sinon USA Inc. | Barley, Oats, Rye.
82557-3 | Methomyl 90% SP | Sinon USA Inc. | Barley, Oats, Rye.
83100-27 | Rotam Methomyl 29 LV Insecticide | Rotam Agrochemical Company, Ltd | Barley, Oats, Rye.
83100-28 | Rotam Methomyl 90 SP Insecticide | Rotam Agrochemical Company, Ltd | Barley, Oats, Rye.

Table 2 of this unit includes the names and addresses of record for the registrants of the products listed in sequence by EPA company number. This corresponds to EPA registration numbers in Table 1 of this unit.

Table 2—Registrants Requesting Voluntary Amendments
EPA Company No. | Company name and address
352 | E. I. Du Pont de Nemours and Company, 1007 Market Street, Wilmington, DE 19898-0001.
400 | MacDermid Agricultural Solutions, Inc., c/o Chemtura Corporation, 199 Benson Road, Middlebury, CT 06749.
70552 | Sinon Corporation, c/o Biologic, Inc., 115 Obtuse Hill Road, Brookfield, CT 06804.
81598 | Rotam Limited, c/o Wagner Regulatory Associates, Inc., P.O. Box 640, 7217 Lancaster Pike, Suite A, Hockessin, DE 19707.
82557 | Sinon USA Inc., c/o Biologic, Inc., 115 Obtuse Hill Road, Brookfield, CT 06804.
83100 | Rotam Agrochemical Company, Ltd., c/o Wagner Regulatory Associates, Inc., P.O. Box 640, 7217 Lancaster Pike, Suite A, Hockessin, DE 19707.

IV. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The methomyl registrants have requested that EPA waive the 180-day comment period. Accordingly, EPA will provide a 30-day comment period on the proposed requests.

V. Procedures for Withdrawal of Requests

Registrants who choose to withdraw a request for product cancellation or use deletion should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for amendments to delete uses are granted, the Agency intends to publish the cancellation order in the Federal Register.

In any order issued in response to these requests for amendments to delete uses, EPA proposes to include the following provisions for the treatment of any existing stocks of the products listed in Table 1 of Unit III.

Once EPA has approved product labels reflecting the requested amendments to delete uses, registrants will be permitted to sell or distribute products under the previously approved labeling for a period of 18 months after the date of Federal Register publication of the cancellation order, unless other restrictions have been imposed. Thereafter, registrants will be prohibited from selling or distributing the products whose labels include the deleted uses identified in Table 1 of Unit III., except for export consistent with FIFRA section 17 or for proper disposal.

Persons other than the registrant may sell, distribute, or use existing stocks of products whose labels include the deleted uses until supplies are exhausted, provided that such sale, distribution, or use is consistent with the terms of the previously approved labeling on, or that accompanied, the deleted uses.

Authority: 7 U.S.C. 136 et seq.

Dated: October 24, 2014.
Richard P. Keigwin, Jr.,
Director, Pesticide Re-Evaluation Division, Office of Pesticide Programs.

[FR Doc. 2014-26176 Filed 11-4-14; 8:45 am]

BILLING CODE 6560-50-P